Title 3—

The President

Proclamation 7737 of November 19, 2003

National Farm-City Week, 2003

By the President of the United States of America

A Proclamation

During National Farm-City Week, Americans honor the hard work of the men and women who earn a living from the land, and we recognize the importance of their partnerships with urban communities.

Our farmers and ranchers face many challenges, including weather, crop disease, and uncertain pricing. Yet with hard work and a love of the land, they have helped America build the most productive agricultural economy in the world. This industry generates 16 percent of America's Gross Domestic Product and employs 17 percent of our workforce.

Our farmers and ranchers build and sustain this industry with the help of others. While farmers and ranchers manage almost half of our Nation's land, they need processors, shippers, retailers, food service providers, and many others to move their products from the farm to the homes of Americans and people around the world. As these cooperative networks provide us with food, clothing, and energy, they help to create a prosperous future for America and the world.

As we celebrate National Farm-City Week, I urge citizens to learn more about the American farm-city partnership and how it strengthens our country.

NOW, THEREFORE, I, GEORGE W. BUSH, President of the United States of America, by virtue of the authority vested in me by the Constitution and laws of the United States, do hereby proclaim November 21 through November 27, 2003, as National Farm-City Week. I encourage all Americans to join in recognizing the hard work, entrepreneurship, and ingenuity of those who produce and promote America's agricultural goods.

IN WITNESS WHEREOF, I have hereunto set my hand this nineteenth day of November, in the year of our Lord two thousand three, and of the Independence of the United States of America the two hundred and twenty-eighth.

B

[FR Doc. 03-29326

Filed 11-20-03; 8:45 am]

Billing code 3195-01-P